DEPARTMENT OF ENERGY

Federal Energy Regulatory Commission

[Docket No. EC05-36-000, et al.]

AES Western Wind, L.L.C., et al.; Electric Rate and Corporate Filings

January 18, 2005.

The following filings have been made with the Commission. The filings are listed in ascending order within each docket classification.

1. AES Western Wind, L.L.C., Condon Wind Power, LLC, SeaWest Holdings, Inc.

[Docket No. EC05-36-000]

Take notice that on January 12, 2005, AES Western Wind, L.L.C., Condon Wind Power, LLC (Condon), and SeaWest Holdings, Inc. (collectively, Applicants) tendered for filing an application requesting all authorizations and approvals necessary under section 203 of the Federal Power Act, 16 U.S.C. 824b, for an indirect disposition of jurisdictional facilities in connection with the acquisition by AES Western Winds, an independent subsidiary of the AES Corporation, of 100 percent of the capital stock of SeaWest Holdings, which indirectly owns a 38.9 percent interest in Condon. Applicants state that Condon owns and operates a 49.8 MW wind-powered generating facility located near Condon, Oregon.

Comment Date: 5 p.m. eastern time on February 2, 2005.

2. Williams Production Company, LLC, Williams Energy Services, LLC, Williams Merchant Services Company, Inc., Williams Power Company

[Docket No. EC05-38-000]

Take notice that on January 13, 2005, Williams Production Company, LLC (Williams Production), Williams Energy Services, LLC (Williams Energy Services), Williams Merchant Services Company, Inc. (Williams Merchant) and Williams Power Company, Inc. (Williams Power) (collectively, Applicants) filed with the Commission an application, pursuant to section 203 of the Federal Power Act requesting Commission authorization to transfer jurisdictional facilities. Specifically, the Applicants request permission to distribute the shares of stock of Williams Generation Company—Hazleton currently held by Williams Production to: (a) Williams Energy Services, (b) Williams Merchant, and ultimately (c) Williams Power. The Applicants indicate that if approved by the Commission, Williams Power will become the direct parent Williams Generation Company—Hazleton.

Comment Date: 5 p.m. eastern time on February 4, 2005.

3. Klondike Wind Power II LLC

[Docket No. EG05-23-000]

Take notice that on January 13, 2005, Klondike Wind Power II LLC (Klondike II) filed an amendment to its application for Determination of Exempt Wholesale Generator Status filed on December 14, 2004, in the above-referenced docket number. Klondike II states that the December 14, 2004, application was inadvertently not served on several affected state commissions. The Certificate of Service attached to the January 13, 2005, filing indicates that Klondike II has served a stamped copy of the December 14, 2004, application on each of the affected state commissions that had not previously been served.

Comment Date: 5 p.m. eastern time on January 31, 2005.

4. Elk River Windfarm LLC

[Docket No. EG05-25-000]

Take notice that on January 13, 2005, Elk River Windfarm LLC (Elk River) filed an amendment to its application for Determination of Exempt Wholesale Generator Status filed on December 21, 2004, in the above-referenced docket number. Elk River states that the December 21, 2004, application was inadvertently not served on several affected state commissions. The Certificate of Service attached to the January 13, 2005, filing indicates that Elk River has served a stamped copy of the December 21, 2004, filing on each of the affected state commissions that had not previously been served.

Comment Date: 5 p.m. eastern time on February 3, 2005.

5. Sierra Pacific Resources Operating Companies

[Docket No. ER04-877-000]

Take notice that on January 10, 2005, the Sierra Pacific Resources Operating Companies filed a withdrawal of the unilateral amendment to Sierra Pacific Operating Companies, FERC Electric Tariff Revised Volume No. 1, Service Agreement No. 97 with Duke Energy North American, LLC and Duke Trading and Marketing, LLC, filed on May 27, 2004, in the above-referenced docket.

Comment Date: 5 p.m. eastern time on January 31, 2005.

Standard Paragraph

Any person desiring to intervene or to protest this filing must file in accordance with Rules 211 and 214 of the Commission's Rules of Practice and Procedure (18 CFR 385.211 and 385.214). Protests will be considered by the Commission in determining the appropriate action to be taken, but will not serve to make protestants parties to the proceeding. Any person wishing to become a party must file a notice of intervention or motion to intervene, as appropriate. Such notices, motions, or protests must be filed on or before the comment date. Anyone filing a motion to intervene or protest must serve a copy of that document on the Applicant and all parties to this proceeding.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Linda Mitry,
Deputy Secretary.

[FR Doc. E5-304 Filed 1-26-05; 8:45 am]

BILLING CODE 6717-01-P